DEPARTMENT OF TRANSPORTATION

Pipeline and Hazardous Materials Safety Administration

Hazardous Materials: Notice of Applications for Special Permits

AGENCY: Pipeline and Hazardous Materials Safety Administration (PHMSA), DOT.

ACTION: List of applications for special permits.

SUMMARY: In accordance with the procedures governing the application for, and the processing of, special permits from the Department of Transportation's Hazardous Material Regulations (49 CFR part 107, subpart B), notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before November 25, 2016.

ADDRESSES: Address Comments to: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Ryan Paquet, Director, Office of Hazardous Materials Approvals and Permits Division, Pipeline and Hazardous Materials Safety Administration, U.S. Department of Transportation, East Building, PHH-30, 1200 New Jersey Avenue Southeast, Washington, DC 20590-0001, (202) 366-4535.

SUPPLEMENTARY INFORMATION: Copies of the applications are available for inspection in the Records Center, East Building, PHH-30, 1200 New Jersey Avenue Southeast, Washington, DC or at http://regulations.gov.

This notice of receipt of applications for special permit is published in accordance with Part 107 of the Federal hazardous materials transportation law (49 U.S.C. 5117(b); 49 CFR 1.53(b)).

Issued in Washington, DC, on September 20, 2016.
Donald Burger,
Chief, Office of the Special Permits and Approvals.

Special Permits Data
Application No. | Docket No. | Applicant | Regulation(s) affected | Nature of the special permits thereof
20307-N | TESLA MOTORS, INC. | 172.101(j) 173.185(a) | To authorize the transportation in commerce of low production and prototype lithium ion batteries in excess of 35 kg by cargo-only aircraft. (mode 4)
20308-N | THE DOW CHEMICAL COMPANY | 172.203(a), 172.302(c), 180.605(h)(3) | To authorize transportation in commerce of UN portable tanks which have been periodically pressure tested using materials other than water. (modes 1, 2, 3)
20311-N | ESSEX INDUSTRIES, INC. | 178.57(d)(3) | To authorize the manufacture, mark, sale, and use of non-DOT specification cylinders meeting the requirements of 4L cylinders except that the heat transfer from the atmosphere to the contents of the cylinder may exceed 0.0005 as specified herein. (modes 1, 2, 4)
20312-N | S.C. JOHNSON & SON, INC. | 173.306 (a)(5)(v) | To authorize the transportation in commerce of DOT Specification 25 and non-DOT specification plastic inside con tainers which are leak tested by an automated in-line pressure check in lieu of the hot water bath specified in the Hazardous Materials Regula tions. (modes 1, 3, 4, 5)
20313-N | TIER HOLDINGS, LLC | 173.244 | To authorize the one-time, one-way transportation in commerce of sodium in non-DOT specification metal bulk tanks. (mode 1)
20315-N | TRANSPORT LOGISTICS INTERNATIONAL, INC. | 173.420 (a)(2)(i) | To authorize the one-time movement of uranium hexa- fluoride in non-authorized packaging. (mode 1)
20321-N | COLMAC COIL MANUFACTURING, INC. | 173.202 | To authorize the transportation in commerce of methanol in non-UN specification packaging. (modes 1, 3)
20322-N | C.H.& I. TECHNOLOGIES, INC. | 178.33-1(a), 178.33a-1(a) | To authorize the transportation in commerce of refillable 2P and 2Q receptacles. (modes 1, 2, 3, 4, 5)
20323-N | CAMX POWER | 173.185(a) | To authorize the transportation of prototype and low production lithium ion and lithium metal cells and batteries. (mode 4)
20324-N | BLUEFIN ROBOTICS CORPORATION | 173.185(a), 172.101(j) | To authorize the transportation of prototype lithium ion and lithium metal batteries exceeding 35 kg in non-specification packaging via cargo-only aircraft. (mode 4)
20326-N | AVIATION INFLATABLES, INC. | 173.302(a), 173.3(a), 175.3 | To authorize the transportation in commerce of non-DOT specification cylinders containing carbon dioxide and other non-flammable, non-toxic gases. (mode 1)
20327-N | NUVERA FUEL CELLS, INC. | 173.187 | To authorize the transportation in commerce of a hydrogen generation apparatus containing less than 100 kg of Division 4.2, PG II solid material in non-DOT specification stainless steel pressure vessel, (modes 1, 3)
20328-N | ENDURA PRODUCTS CORP. | 172.203(a), 172.302(a), 177.834(h) | To obtain the ability to pump chemicals from the back of our trucks during delivery to oil-field locations. (mode 1)
20330-N | ANADARKO PETROLEUM CORPORATION | 173.448(f) | To authorize the transportation of Class 7 materials aboard passenger-carrying aircraft. (mode 5)
20331-N | C.L. SMITH COMPANY, INC | 172.200, 172.300, 172.400, 172.600, 172.704 | To authorize the manufacture, mark, sale and use of UN specification packaging for the transportation of damaged/defective lithiumi on batteries (modes 1, 2, 3)

[FR Doc. 2016-25534 Filed 10-24-16; 8:45 am]

BILLING CODE 4909-60-M